DEPARTMENT OF THE INTERIOR

Bureau of Land Management

[LLCA930000 L13400000.XM0000.18XL1109AF]

Notice of Intent To Amend the California Desert Conservation Area, Bakersfield, and Bishop Resource Management Plans and Prepare Associated Environmental Impact Statements or Environmental Assessments

AGENCY: Bureau of Land Management, Interior.

ACTION: Notice of intent.

SUMMARY: On September 14, 2016, the Bureau of Land Management (BLM) issued the Record of Decision (ROD) for the Desert Renewable Energy Conservation Plan Land Use Plan Amendment (DRECP), which amended the California Desert Conservation Area (CDCA) Plan, Bishop Resource Management Plan (RMP), and the Bakersfield RMP in the Mojave and Colorado/Sonoran Desert regions of southern California. On March 28, 2017, the President issued Executive Order 13783, “Promoting Energy Independence and Economic Growth,” which directs all Federal agencies to review all actions that could “potentially burden the development or use of domestically produced energy resources.” To facilitate the BLM's review of the DRECP, including potential burdens on domestic renewable energy production in California, the BLM, by this notice, is announcing the beginning of the scoping process to solicit public comments and identify issues.

DATES: This notice initiates the public scoping process for the potential plan amendments and associated National Environmental Policy Act (NEPA) documents. Comments on issues may be submitted in writing until March 19, 2018. The dates and locations of any scoping meetings will be announced at least 15 days in advance through local news media, newspapers and the BLM website at www.blm.gov/california/drecp. In order to be included in the analysis, all comments must be received prior to the close of the scoping period or 15 days after the last public meeting, whichever is later. We will provide additional opportunities for public participation upon publication of the Draft Plan Amendment and NEPA document.

ADDRESSES: You may submit comments on issues and planning criteria to the BLM-California State Director, 2800 Cottage Way, Rm W-1623, Sacramento, CA 95825 or electronically to BLM_CA_DRECP@blm.gov.

FOR FURTHER INFORMATION CONTACT: Jeremiah Karuzas, Renewable Energy Lead, 916-978-4644, 2800 Cottage Way, Rm W-1623, Sacramento, CA 95825; email: jkaruzas@blm.gov. Documents relevant to this planning process can be found at the above address. Persons who use a telecommunications device for the deaf (TDD) may call the Federal Relay Service (FRS) at 1-800-877-8339 to reach the BLM contact person. The FRS is available 24 hours a day, 7 days a week, to leave a message or question with the above individual. You will receive a reply during normal business hours.

SUPPLEMENTARY INFORMATION: On July 29, 2011, the BLM and the Fish and Wildlife Service initiated a process to jointly prepare an Environmental Impact Statement (EIS) under the NEPA for the DRECP. After the BLM prepared an EIS, on September 14, 2016, it issued a DRECP ROD that amended the CDCA Plan, Bishop RMP, and Bakersfield RMP in the Mojave and Colorado/Sonoran Desert regions of southern California. The DRECP Planning Area covered approximately 22,587,000 acres of both Federal and non-Federal land—including portions of seven counties (Imperial, Inyo, Kern, Los Angeles, Riverside, San Bernardino, and San Diego). The BLM manages approximately 10.8 million acres of the DRECP planning area.

The BLM's DRECP makes available just over 800,000 acres (7%) of the 10.8 million acres of land potentially available for renewable energy development, of which 388,000 acres (4%) were designated as Development Focus Areas, considered to be areas with substantial renewable energy potential and low resource conflict. The ROD allocated a total of 6.5 million acres (60%) as conservation areas, to include California Desert National Conservation Lands, Areas of Critical Environmental Concern, wildlife allocations, and National Scenic and Historic Trail corridors—which limit or are closed to renewable energy. The ROD also designated a little over 3.5 million acres (33%) as Special Recreation Management Areas and Extensive Recreation Management Areas—which the ROD states are also generally closed to renewable energy.

As a result of concerns voiced by multiple parties throughout the public comment periods of the DRECP planning process, the BLM seeks additional comment on the DRECP ROD, including the renewable energy and conservation designations made through that decision. In 2008, Governor Schwarzenegger signed an executive order that required that 33 percent of California's energy production be via renewable energy in 2020. In October 2015, Governor Edmund G. Brown, Jr. signed into law a measure which requires retail sellers and publicly owned utilities to procure 50 percent of their electricity from renewable energy resources by 2030. And, on March 28, 2017, the President issued Executive Order 13783, “Promoting Energy Independence and Economic Growth,” which directs all Federal agencies to review all actions that could “potentially burden the development or use of domestically produced energy resources.” In recognition of these goals and direction, BLM seeks comment on the potential impacts that land use designations contained in the amended RMPs will have on commercial-scale renewable energy projects, including wind, solar and geothermal. In particular, the BLM seeks comment on the Areas of Critical Environmental Concern that were designated, including where private lands lie within the external boundaries of such designations, as well as comments on increasing opportunities for increased renewable energy development, recreational and off-highway vehicle (OHV) access, mining access, and grazing.

Finally, on January 8, 2018, the President signed an Executive Order on Streamlining and Expediting Requests to Locate Broadband Facilities in Rural America, which directs Federal agencies: “. . . to reduce barriers to capital investment, remove obstacles to broadband services, and more efficiently employ Government resources” in order to foster rural broadband infrastructure projects. Therefore, the BLM also seeks comment on the impact that land use designations, land disturbance limits (or “caps”), and visual management classifications contained in the amended RMPs may have on the deployment of future communications infrastructure.

You may submit comments in writing to the BLM at any public scoping meeting, or you may submit them to the BLM using the method listed in the ADDRESSES section. To be most helpful, you should submit comments by the close of the 45-day scoping period or within 15 days after the last public meeting, whichever is later.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft Plan Amendment and NEPA document as to why an issue was placed in category two or three. The public is also encouraged to help identify any management questions and concerns that should be addressed in the plan. The BLM will work collaboratively with interested parties to identify the management decisions that are best suited to local, regional, and national needs and concerns. The BLM will use an interdisciplinary approach to develop the plan amendment in order to consider the variety of resource issues and concerns identified.

Authority: 40 CFR 1501.7 and 43 CFR 1610.2.

Jerome E. Perez,
California State Director.

[FR Doc. 2018-02098 Filed 2-1-18; 8:45 am]

BILLING CODE 4310-40-P